FEDERAL MARITIME COMMISSION

Notice of Agreement Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. A Copy of the agreement is available through the Commission's website (www.fmc.gov) or by contacting the Office of Agreements at (202)-523-5793 or tradeanalysis@fmc.gov.

Agreement No.: 011707-016.

Agreement Name: Gulf/South America Discussion Agreement.

Parties: BBC Chartering Carriers GmbH & Co. KG; Industrial Maritime Carriers, LLC; Seaboard Marine Ltd.; and ZEAMARINE Carrier GmbH.

Filing Party: Wade Hooker.

Synopsis: The amendment removes the sections into which the parties are currently divided, adds ad hoc space charter authority, adds joint service contract authority, and adds ZEAMARINE Carrier GmbH as a party to the Agreement.

Proposed Effective Date: 12/27/2018.

Location: https://www2.fmc.gov/FMC.Agreements.Web/Public/AgreementHistory/684.

Dated: November 16, 2018.
Rachel Dickon,
Secretary.

[FR Doc. 2018-25389 Filed 11-20-18; 8:45 am]

BILLING CODE 6731-AA-P